FEDERAL ELECTION COMMISSION

Sunshine Act; Meeting

Date and Time: Tuesday, August 17, 2004 at 10 a.m.

Place: 999 E Street, NW., Washington, DC.

Status: This meeting will be closed to the public.

Items To Be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date and Time: Thursday, August 19, 2004 at 10 a.m.

Place: 999 E Street, NW., Washington, DC (ninth floor).

Status: This meeting will be open to the public.

Items To Be Discussed: Correction and Approval of Minutes.

Advisory Opinion 2004-19: DollarVote by Andrew W. Mitchell, President.

Advisory Opinion 2004-26: Representative Gerald C. Weller and Ms. Zury Rios Sosa by counsel, Jan Witold Baran.

Final Rules on Political Committee Status.

Notice of Availability for a Petition for Rulemaking filed by Robert F. Bauer.

Routine Administrative Matters.

Person To Contact for Information: Mr. Robert Biersack, Acting Press Officer, Telephone: (202) 694-1220.

Mary W. Dove,
Secretary of the Commission.

[FR Doc. 04-18517 Filed 8-10-04; 10:43 am]

BILLING CODE 6715-01-M